DEPARTMENT OF ENERGY

Federal Energy Regulatory Commission

Combined Notice of Filings #1

Take notice that the Commission received the following electric rate filings:

Docket Numbers: ER23-2804-000.

Applicants: ISO New England Inc., New England Power Company.

Description: Refund Report: New England Power Company submits tariff filing per 35.19a(b): Local Service Agreement Refund Report to be effective N/A.

Filed Date: 2/21/24.

Accession Number: 20240221-5008.

Comment Date: 5 p.m. ET 3/13/24.

Docket Numbers: ER24-521-001.

Applicants: Duke Energy Florida, LLC.

Description: Tariff Amendment: DEF—Response to Deficiency Letter to be effective 11/14/2023.

Filed Date: 2/20/24.

Accession Number: 20240220-5276.

Comment Date: 5 p.m. ET 3/12/24.

Docket Numbers: ER24-722-001.

Applicants: Oklahoma Gas and Electric Company.

Description: Tariff Amendment: Amendment to 48 Deficiency Filing to be effective 1/1/2024.

Filed Date: 2/21/24.

Accession Number: 20240221-5059.

Comment Date: 5 p.m. ET 3/13/24.

Docket Numbers: ER24-771-000.

Applicants: Viridon New England LLC.

Description: Viridon New England LLC submits Supplement to Request for Authorization for Incentive Rate Treatments.

Filed Date: 2/15/24.

Accession Number: 20240215-5296.

Comment Date: 5 p.m. ET 2/26/24.

Docket Numbers: ER24-1283-000.

Applicants: PJM Interconnection, L.L.C.

Description: Tariff Amendment: Notice of Cancellation of WMPA SA No. 5451, Queue No. AD1-018 to be effective 4/22/2024.

Filed Date: 2/20/24.

Accession Number: 20240220-5257.

Comment Date: 5 p.m. ET 3/12/24.

Docket Numbers: ER24-1284-000.

Applicants: SR Toombs, LLC.

Description: Baseline eTariff Filing: Market-Based Rate Application to be effective 4/21/2024.

Filed Date: 2/20/24.

Accession Number: 20240220-5261.

Comment Date: 5 p.m. ET 3/12/24.

Docket Numbers: ER24-1285-000.

Applicants: SR Toombs Lessee, LLC.

Description: Baseline eTariff Filing: Market-Based Rate Application to be effective 4/21/2024.

Filed Date: 2/20/24.

Accession Number: 20240220-5263.

Comment Date: 5 p.m. ET 3/12/24.

Docket Numbers: ER24-1286-000.

Applicants: Idaho Power Company.

Description: 205(d) Rate Filing: RS 44—Certificate of Concurrence and Tariff Record to be effective 1/12/2024.

Filed Date: 2/20/24.

Accession Number: 20240220-5280.

Comment Date: 5 p.m. ET 3/12/24.

Docket Numbers: ER24-1287-000.

Applicants: Wadley Solar, LLC.

Description: Baseline eTariff Filing: Wadley Solar, LLC Application for MBR Authorization to be effective 4/22/2024.

Filed Date: 2/21/24.

Accession Number: 20240221-5144.

Comment Date: 5 p.m. ET 3/13/24.

Docket Numbers: ER24-1288-000.

Applicants: Washington County Solar, LLC.

Description: Baseline eTariff Filing: Washington County Solar, LLC Application for MBR Authorization to be effective 4/22/2024.

Filed Date: 2/21/24.

Accession Number: 20240221-5147.

Comment Date: 5 p.m. ET 3/13/24.

Docket Numbers: ER24-1289-000.

Applicants: Decatur Solar Energy Center, LLC.

Description: Baseline eTariff Filing: Decatur Solar Energy Center, LLC Application for MBR Authorization to be effective 4/22/2024.

Filed Date: 2/21/24.

Accession Number: 20240221-5154.

Comment Date: 5 p.m. ET 3/13/24.

Docket Numbers: ER24-1290-000.

Applicants: ISO New England Inc.

Description: ISO New England Inc., submits the Forward Capacity Auction Results Filing for Forward Capacity Auction 18.

Filed Date: 2/21/24.

Accession Number: 20240221-5178.

Comment Date: 5 p.m. ET 4/8/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 21, 2024.
Debbie-Anne A. Reese,
Acting Secretary.

[FR Doc. 2024-04044 Filed 2-26-24; 8:45 am]

BILLING CODE 6717-01-P